DEPARTMENT OF LABOR

Employment and Training Administration

[TA-W-64,505]

SB Acquisition, LLC, dba Saunders Brothers, Including On-Site Leased Workers From Manpower, Fryeburg, ME; Notice of Revised Determination on Reconsideration

On February 23, 2009, the Department issued an Affirmative Determination Regarding Application for Reconsideration applicable to workers and former workers of the subject firm. The notice was published in the Federal Register on March 4, 2009 (74 FR 9432).

The previous investigation initiated on November 21, 2008, resulted in a negative determination issued on January 2, 2009, was based on the finding that sales and production at the subject firm increased during the period of January through November 2008, when compared to the same period in 2007. The denial notice was published in the Federal Register on January 26, 2009 (74 FR 4464).

In the request for reconsideration, the petitioner provided additional information regarding the subject firm's monthly sales of wood products (dowels) and imports of these products by the subject firm into the United States.

The Department carefully reviewed the information provided during the initial investigation and on reconsideration and has determined that sales, production and employment at the subject firm declined during the relevant period. Furthermore, the investigation revealed that company-wide imports of wood products increased during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that increased imports of wood products, produced by SB Acquisition, LLC, dba Saunders Brothers, Fryeburg, Maine contributed importantly to the total or partial separation of workers and to the decline in sales or production at that firm or subdivision. In accordance with the provisions of the Act, I make the following certification:

All workers of SB Acquisition, LLC, dba Saunders Brothers, including on-site leased workers from Manpower, Fryeburg, Maine, who became totally or partially separated from employment on or after November 20, 2007, through two years from the date of this certification, are eligible to apply for adjustment assistance under Section 223 of the Trade Act of 1974, and are eligible to apply for alternative trade adjustment assistance under Section 246 of the Trade Act of 1974.

Signed in Washington, DC this 31st day of March 2009.
Elliott S. Kushner,
Certifying Officer, Division of Trade Adjustment Assistance.

[FR Doc. E9-7799 Filed 4-6-09; 8:45 am]

BILLING CODE 4510-FN-P